DEPARTMENT OF THE TREASURY

Bureau of the Public Debt

Senior Executive Service; Public Debt Performance Review Board (PRB)

AGENCY: Bureau of the Public Debt, Treasury.

ACTION: Notice of Members of Public Debt Performance Review Board.

SUMMARY: This notice announces the appointment of the members of the Public Debt Performance Review Board (PRB) for the Bureau of the Public Debt (BPD). The PRB reviews the performance appraisals of career senior executives who are below the level of Assistant Commissioner/Executive Director and who are not assigned to the Office of the Commissioner in BPD. The PRB makes recommendations regarding proposed performance appraisals, ratings, bonuses, pay adjustments, and other appropriate personnel actions.

DATES: The membership on the Public Debt PRB as described in the Notice is effective on September 28, 2010.

FOR FURTHER INFORMATION CONTACT: Angela Jones, Director, Human Resources Division, Office of Management Services, BPD, (304) 480-8949.

SUPPLEMENTARY INFORMATION: Pursuant to 5 U.S.C. 4314(c)(4), this Notice announces the appointment of the following primary and alternate members to the Public Debt PRB:

Primary Members:

Anita Shandor, Deputy Commissioner, Office of the Commissioner, BPD Kimberly A. McCoy, Assistant Commissioner, Office of Information Technology, BPD.

Cynthia Z. Springer, Executive Director, Administrative Resource Center, BPD.

Alternate Members:

Dara Seaman, Assistant Commissioner, Office of Financing, BPD.

Van Zeck,
Commissioner.

[FR Doc. 2010-24267 Filed 9-27-10; 8:45 am]

BILLING CODE 4810-39-P